FEDERAL MARITIME COMMISSION

Agency Information Collection Activities: 60-Day Public Comment Request

AGENCY: Federal Maritime Commission.

ACTION: Notice and request for comments.

SUMMARY: The Federal Maritime Commission (Commission) will be submitting an Information Collection Request (ICR) to the Office of Management and Budget (OMB) for review and approval in accordance with the Paperwork Reduction Act of 1995. The ICR is for an extension with change of a previously approved information collection. Prior to submitting the ICR to OMB, the Commission invites comments on the information collection listed below in this notice.

DATES: Written comments must be submitted on or before September 14, 2020.

ADDRESSES: Comments should be addressed to: Karen V. Gregory, Managing Director, Office of the Managing Director, Federal Maritime Commission, omd@fmc.gov.

FOR FURTHER INFORMATION CONTACT: Copies of the information collection and instructions, or copies of any comments received, may be obtained by contacting Donna Lee at (202) 523-5800 or email: omd@fmc.gov.

REQUEST FOR COMMENTS: The Commission, as part of its continuing effort to reduce paperwork and respondent burden, invites the general public and other Federal agencies to comment on the information collection extension with change listed in this notice, as required by the Paperwork Reduction Act of 1995 (44 U.S.C. 3501 et seq.).

Comments submitted in response to this notice will be included or summarized in our request for OMB approval of the relevant information collection. All comments are part of the public record and subject to disclosure. Please do not include any confidential or inappropriate material in your comments. We invite comments on: (1) The necessity and utility of the information collection for the proper performance of the agency's functions; (2) the accuracy of the estimated burden; (3) ways to enhance the quality, utility, and clarity of the information to be collected; and (4) the use of automated collection techniques or other forms of information technology to minimize the information collection burden.

Information Collection Open for Comment

Title: 46 CFR part 515—Licensing, Registration, Financial Responsibility Requirements and General Duties for Ocean Transportation Intermediaries.

OMB Control Number: 3072-0018 (Expires Dec 31, 2022).

Abstract: The Shipping Act of 1984 (the Act), 46 U.S.C. 40101-41309, as amended, provides that no person in the United States may advertise, hold oneself out, or act as an ocean transportation intermediary (OTI) unless that person holds a license issued by the Commission. The Commission shall issue an OTI license to any person that the Commission determines to be qualified by experience and character to act as an OTI. Further, no person may act as an OTI unless that person furnishes a bond, proof of insurance, or other surety in a form and amount determined by the Commission to insure financial responsibility. The Commission has implemented the Act's OTI requirements in regulations contained in 46 CFR part 515, including financial responsibility Forms FMC-48, FMC-67, FMC-68, and FMC-69, Optional Rider Forms FMC-48A and FMC-69A, its related license application Form FMC-18, and the related foreign-based unlicensed NVOCC registration/renewal Form FMC-65.

Type of Request: Extension with change.

Proposed Changes: Through a Final Rule published in Docket No 19-06, the Commission revised its regulations to implement the provisions of the Frank LoBiondo Coast Guard Authorization Act of 2018. The revisions included amendments to the regulations governing OTIs to reflect statutory changes to the types of persons that are required to be licensed and maintain a bond, insurance, or other surety. The Final Rule also revised the regulations governing the general duties of non-vessel-operating common carriers (NVOCCs) to reflect amendments to several prohibited acts. In particular, the Final Rule eliminated the requirement that registered NVOCCs use only licensed OTIs as agents in the United States. Consistent with this change, the Commission proposes to remove that portion of the certification in the Form FMC-65 that requires applicants to certify that they will only use licensed OTIs for any OTI activities performed on their behalf in the United States.

Purpose: The Commission uses information obtained under this part and through Form FMC-18 to determine the qualifications of OTIs and their compliance with the Act and regulations, and to enable the Commission to discharge its duties under the Act by ensuring that OTIs maintain acceptable evidence of financial responsibility. If the collection of information were not conducted, there would be no basis upon which the Commission could determine if applicants are qualified for licensing. The Commission would also not be able to effectively assess the compliance of foreign-based, unlicensed NVOCCs without the required registration information.

Frequency: This information is collected when applicants apply for a license or submit a registration, complete the triennial renewal, or when existing licensees or registrants change their application forms.

Type of Respondents: The types of respondents are persons desiring to obtain or maintain a license or registration to advertise, hold themselves out as, or act as an OTI. Under the Act, OTIs may be either an ocean freight forwarder, an NVOCC, or both.

Number of Annual Respondents: The Commission estimates a potential annual respondent universe of 6,475 entities.

Estimated Time per Response: The time per response to complete application Form FMC-18 averages 2 hours and to complete the triennial renewal is 10 minutes. The time to complete a financial responsibility form averages 20 minutes. The time to complete Form FMC-65 to submit or renew a registration as a foreign-based, unlicensed NVOCC averages 10 minutes.

Total Annual Burden: The Commission estimates the total annual burden at 3,918 hours.

By the Commission.
Rachel Dickon,
Secretary.

[FR Doc. 2020-15092 Filed 7-13-20; 8:45 am]

BILLING CODE 6730-02-P